DEPARTMENT OF TRANSPORTATION

Federal Aviation Administration

14 CFR Part 39

[Docket No. 2000-SW-47-AD; Amendment 39-12424; AD 2001-17-32]

RIN 2120-AA64

Airworthiness Directives; Eurocopter France Model AS350B, B1, B2, B3, BA, D, D1 and AS355E, F, F1, F2, and N Helicopters

AGENCY: Federal Aviation Administration, DOT.

ACTION: Final rule.

SUMMARY: This amendment supersedes an existing airworthiness directive (AD) that applies to Eurocopter France (ECF) Model AS350B, B1, B2, B3, BA, D, AS355E, F, F1, F2, and N helicopters. That AD requires inspecting certain versions of the tail rotor pitch change spider assembly (spider assembly) for the proper rotational torque, axial play, and any brinelling of the bearing. This AD requires identifying the spider assembly with index marks to detect bearing spacer rotation, visually checking to ensure that the index marks are aligned before the first flight of each day, and subsequently modifying the spider assembly. This AD also adds the ECF Model AS350D1 helicopters to the applicability. This AD is prompted by operator reports that the spider assembly bearing spacers are rotating. The actions specified by this AD are intended to detect rotation of the spider assembly bearing spacers, prevent seizure of the bearing, loss of tail rotor control, and subsequent loss of control of the helicopter.

DATES: Effective October 4, 2001.

The incorporation by reference of certain publications listed in the regulations is approved by the Director of the Federal Register as of October 4, 2001.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Jim Grigg, Aviation Safety Engineer, FAA, Rotorcraft Directorate, Regulations Group, Fort Worth, Texas 76193-0111, telephone (817) 222-5490, fax (817) 222-5961.

SUPPLEMENTARY INFORMATION: A proposal to amend 14 CFR part 39 by superseding AD 99-24-18, Amendment 39-11443 (64 FR 66762, November 30, 1999), which applies to ECF Model AS350B, B1, B2, B3, BA, D, D1, and AS355E, F, F1, F2, and N helicopters, was published in the Federal Register on May 22, 2001 (66 FR 28133). That action proposed the following:

• Within 10 hours time-in-service (TIS), install index marks on the spider assembly to detect any bearing spacer rotation;

• Before the first flight of each day, visually check to ensure that the index marks are aligned; and

• Within 25 hours TIS if bearing spacer rotation is detected or at the next 500 hours inspection if no bearing spacer rotation is detected, modify the spider assembly.

Interested persons have been afforded an opportunity to participate in the making of this amendment. No comments were received on the proposal or the FAA's determination of the cost to the public. The FAA has determined that air safety and the public interest require the adoption of the rule as proposed, except for non-substantive editorial changes.

The FAA estimates that this AD will affect 514 helicopters of U.S. registry. It will take approximately 0.25 work hour per helicopter to identify each spider assembly with index marks and 6 work hours to modify the spider assembly. The average labor rate is $60 per work hour. Required parts will cost approximately $200 per helicopter. Based on these figures, the total cost impact of this AD on U.S. operators is estimated to be $295,550, assuming that the index marks are installed on all helicopters and that the spider assembly is modified on all the helicopters.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11443 (64 FR 66762, November 30, 1999), and by adding a new airworthiness directive (AD), Amendment 39-12424, to read as follows:

2001-17-32 Eurocopter France: Amendment 39-12424. Docket No. 2000-SW-47-AD. Supersedes AD 99-24-18, Amendment 39-11443, Docket No. 99-SW-41-AD.

Applicability: AS350B, B1, B2, B3, BA, D, D1 and AS355E, F, F1, F2, and N helicopters, with tail rotor pitch change spider assembly (spider assembly), part number (P/N) 350A33-2004-00, -01, -02, -03, -05, or 350A33-2009-00 or -01, installed, and which do not incorporate MOD 076554, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To detect rotation of the spider assembly bearing spacers, prevent seizure of the bearing, loss of tail rotor control, and subsequent loss of control of the helicopter, accomplish the following:

(a) Within 10 hours time-in-service (TIS), install identifying index marks on the spider assembly in accordance with (IAW) the Accomplishment Instructions, paragraph 2.B.1, of Eurocopter France Service Bulletin (SB) No. 05.00.33 for Model AS 350 series helicopters or 05.00.33 for Model AS 355 series helicopters. Both SB's are dated May 15, 2000.

(b) Before the first flight of each day, visually check that the index marks on the rotating plate and on the spacer are aligned. The visual check required by the AD may be performed by an owner/operator (pilot) but must be entered into the aircraft records showing compliance with paragraph (b) of this AD in accordance with 14 CFR 43.11 and 91.417(a)(2)(v).

Note 2: This AD allows a pilot to perform this check because it involves only a visual check of the index marks on the spider assembly and can be performed equally well by a pilot or a mechanic.

(c) At the following intervals, modify the spider assembly:

(1) If bearing spacer rotation is detected, within 25 hours TIS, IAW paragraph 2.B.4 of the applicable SB.

(2) If no bearing spacer rotation is detected, at the next 500-hour (“T”) inspection, IAW paragraph 2.B.3 of the applicable SB.

(d) Modifying the bearing assembly with MOD 076554 constitutes terminating action for the requirements of this AD.

(e) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(f) Special flight permits may be issued in accordance with 14 CFR 21.197 and 21.199 to operate the helicopter to a location where the requirements of this AD can be accomplished.

(g) The modifications shall be done in accordance with the Accomplishment Instructions, paragraphs 2.B.1, 2.B.3, and 2.B.4 of Eurocopter France Service Bulletin No. 05.00.33 for Model AS 350 series helicopters or 05.00.33 for Model AS 355 series helicopters. Both service bulletins are dated May 15, 2000. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(h) This amendment becomes effective on October 4, 2001.

Note 4: The subject of this proposal is addressed in Direction Generale de L'Aviation Civile (France) AD No.'s T2000-222-079(A) and T2000-223-059(A), both dated June 2, 2000.

Issued in Fort Worth, Texas, on August 17, 2001.
Eric Bries,
Acting Manager, Rotorcraft Directorate, Aircraft Certification Service.

[FR Doc. 01-21747 Filed 8-29-01; 8:45 am]

BILLING CODE 4910-13-P